ENVIRONMENTAL PROTECTION AGENCY

[EPA-HQ-OPP-2010-0001; FRL-8853-5]

SFIREG Full Committee; Notice of Public Meeting

AGENCY: Environmental Protection Agency (EPA).

ACTION: Notice.

SUMMARY: The Association of American Pesticide Control Officials (AAPCO)/State FIFRA Issues Research and Evaluation Group (SFIREG) Full Committee will hold a 2-day meeting, beginning on December 6, 2010, and ending December 7, 2010. This notice announces the location and times for the meeting and sets forth the tentative agenda topics.

DATES: The meeting will be held on Monday, December 6, 2010, from 8:30 a.m. to 5 p.m. and Tuesday, December 7, 2010, from 8:30 a.m. to noon.

To request accommodation of a disability, please contact the person listed under FOR FURTHER INFORMATON CONTACT, preferably at least 10 days prior to the meeting, to give EPA as much time as possible to process your request.

ADDRESSES: The meeting will be held at EPA One Potomac Yard (South Bldg.) 2777 Crystal Dr., Arlington VA, 1st Floor South Conference Room.

FOR FURTHER INFORMATION CONTACT: Ron Kendall, Field and External Affairs Division (7506P), Office of Pesticide Programs, Environmental Protection Agency, 1200 Pennsylvania Ave., NW., Washington, DC 20460-0001; telephone number: (703) 305-5561; fax number: (703) 308-2962; e-mail address: kendall.ron@epa.gov or Grier Stayton, SFIREG Executive Secretary, P.O. Box 466, Milford, DE 19963; telephone number: (302) 422-8152; fax number: (302) 422-2435; e-mail address: Grier Stayton@aapco-sfireg@comcast.net.

SUPPLEMENTARY INFORMATION:

I. General Information

A. Does this Action apply to me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug, and Cosmetics Act (FFDCA), or the Federal Insecticide, Fungicide, and Rodenticide Act (FIFRA).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get copies of this document and other related information?

EPA has established a docket for this action under docket ID number EPA-HQ-OPP-2010-0001. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

This unit sets forth the tentative agenda for the meeting:

1. Issue Paper on Differentiation of Label Language.

2. Issue Paper on “For Use By” Label Statements.

3. Issue Paper on Expiration Dates—Supplemental Labeling.

4. Issue Paper on Revision of PR Notice 87-1 (Chemigation).

5. Status of Drift PRN.

6. Total Release Fogger investigation.

7. Rewrite of Pesticide Inspectors Manual by the Office of Enforcement and Compliance Assurance (OECA).

8. Survey on decline in state pesticide program resources.

9. Federal credentialing resource issues.

10. Fumigation Label review process.

11. Discussion on State Lead Agency (SLA) enforcement issues for which EPA can provide assistance.

12. Discussion on providing for more input from SLAs in rule-making process.

13. Discussion on providing for more review of enforceability of label language during label review process.

14. SFIREG Committee Reports.

15. Revisions to State Tribal Assistance Grants (STAG) grant funding.

16. Discussion of revised State Label Issues Tracking System (SLITS) process.

17. Association of Structural Pest Control Regulatory Officials Update.

18. Association of American Pesticide Safety Educators Report.

19. Tribal Pesticide Program Council Report.

20. Pesticide Program Dialogue Committee Update.

III. How can I request to participate in this meeting?

This meeting is open for the public to attend. You may attend the meeting without further notification.

List of Subjects

Environmental protection, Pesticides and pests.

Dated: November 10, 2010.
Robert McNally,
Acting Director, Field and External Affairs Division, Office of Pesticide Programs.

[FR Doc. 2010-29143 Filed 11-18-10; 8:45 am]

BILLING CODE 6560-50-P